DEPARTMENT OF COMMERCE

Economic Development Administration

Notice of Petitions by Firms for Determination of Eligibility To Apply for Trade Adjustment Assistance

AGENCY: Economic Development Administration, Department of Commerce.

ACTION: Notice and Opportunity for Public Comment.

Pursuant to Section 251 of the Trade Act of 1974 (19 U.S.C. 2341 et seq.), the Economic Development Administration (EDA) has received petitions for certification of eligibility to apply for Trade Adjustment Assistance from the firms listed below. EDA has initiated separate investigations to determine whether increased imports into the United States of articles like or directly competitive with those produced by each firm contributed importantly to the total or partial separation of the firm's workers, or threat thereof, and to a decrease in sales or production of each petitioning firm.

List of Petitions Received by EDA for Certification of Eligibility To Apply for Trade Adjustment
[4/20/2008 through 5/30/2008]
Firm | Address | Date accepted for filing | Products
Pro-Con, Inc | 1006 Industrial Drive, Pleasant Hill, MO 64080 | 5/20/2008 | Custom machine parts.
Prime Eco Group, Inc | 2933 Highway 60 South, Wharton, TX 77488 | 5/20/2008 | Construction and oil field chemicals, including concrete curing compounds and asphalt curing.
Machining Technology, Inc | 529F Main Street, Harwood, PA 18201 | 5/21/2008 | Metal parts for the commercial industry.
Currier Plastics, Inc | 101 Columbus Street, Auburn, NY 13021 | 5/30/2008 | Plastic components and assemblies (and associated tooling).
California Pacific Door, Inc | 16890 Church Street, Morgan Hill, CA 95037 | 5/23/2008 | High quality rigid thermofoil (RTF) cabinet doors.
Indi-Champ, Inc., dba: Electro Circuits LLC | 5706 Green Ash Dr., Houston, TX 77081 | 4/30/2008 | Printed circuit boards.
Gulf Island Shrimp & Seafood II, LLC | 3935 Ryan Street, Lake Charles, LA 70605 | 5/16/2008 | Processed and frozen shrimp for the retail market.
Alfred Manufacturing Company | 4398 Elati Street, Denver, CO 80216 | 4/25/2008 | Process raw materials which include steel, aluminum, brass, assembly screws, plastic injection molded parts.
National Tool and Manufacturing | 100 North 12th Street, Kenilworth, NJ 07033 | 4/25/2008 | Mold bases, dies, tools, jigs, and fixtures.
Bayside Tool Company | 7900 Middle Road, PO Fairview, PA 16415 | 4/20/2008 | Molds for plastic industry.
National Spinning Co., Inc | 1481 West 2nd Street, Washington, NC 27889 | 4/24/2008 | Spun acrylic yarn.
Custom Shell, Inc | 5507 114th Street, Lubbock, TX 79424 | 4/22/2008 | Cleaned and shelled pecans.
Progressive Service Die Company | 217 White Street, Jacksonville, NC 28546 | 4/23/2008 | Forged and pre-hardened/pre-sharpened clicker dies, steel rule dies, and radio frequency.
Line Manufacturing, Inc | 7 Town Line Road, Wolcott, CT 07616 | 4/24/2008 | Shells, cans, ferrules, caps, fittings, closures, eyelets, and deep drawn metal stampings.
Kimble Precision, Inc | 418 8th Street, SE., Unit, Loveland, CO 80537 | 4/24/2008 | Machine parts and other components used in the electronics industry.
Llink Technologies, L.L.C | 3953 Burnsline Road, Brown City, MI 48416 | 4/24/2008 | Sun visors and interior trim components for auto vehicles.
Advanced Machine & Tool Corporation | 3706 Transportation Drive, Fort Wayne, IN 46818 | 4/29/2008 | Industrial and commercial machinery and automation equipment.
Silver Needle Co | 1628 Big Creek Road, Kellogg, Idaho 83837 | 4/25/2008 | Clothing and other durable goods.
D & M Plastics Corporation | 150 French Road, Burlington, IL 60610 | 4/25/2008 | Plastic injection molding.
Trident Manufacturing, Inc | 175 Mill Street, Burlington, IL 60109-0697 | 4/25/2008 | Electronic connectors, components and assemblies.
Frey & Weiss Precision Machining, Inc | 384 Beinoris Drive, Wood Dale, IL 60191-1223 | 5/21/2008 | Precision machined metal parts for radar equipment.
Rio Properties, Inc. dba: Southern Nurseries | P.O. Box 1025, Donna, TX 78537 | 4/22/2008 | Madagascar date palm, Bismarck palm, desert fan palm, Florida Cuban royal, fox tail, and live oak tree.

Any party having a substantial interest in these proceedings may request a public hearing on the matter. A written request for a hearing must be submitted to the Office of Performance Evaluation, Room 7009, Economic Development Administration, U.S. Department of Commerce, Washington, DC 20230, no later than ten (10) calendar days following publication of this notice. Please follow the procedures set forth in Section 315.9 of EDA's final rule (71 FR 56704) for procedures for requesting a public hearing. The Catalog of Federal Domestic Assistance official program number and title of the program under which these petitions are submitted is 11.313, Trade Adjustment Assistance.

Dated: July 25, 2008.
William P. Kittredge,
Program Officer for TAA.

[FR Doc. E8-16939 Filed 7-23-08; 8:45 am]

BILLING CODE 3510-24-P